FEDERAL RESERVE SYSTEM

Corporation To Do Business Under the Federal Reserve Act

The companies listed in this notice have applied to the Board for approval, pursuant to Section 25A of the Federal Reserve Act (Edge Corporation) 12 U.S.C. Sec. 611 et seq., and all other applicable statutes and regulations to establish an Edge Corporation. The Edge Corporation will operate as a subsidiary of the applicant, Lake Forest Bank and Trust Company, Lake Forest, Illinois. The factors that are to be considered in acting on the application are set forth in the Board's Regulation K (12 CFR 211.4).

The applications below, as well as other related filings required by the Board, are available for immediate inspection at the Federal Reserve Bank indicated. The applications also will be available for inspection at the office of the Board of Governors. Interested persons may express their views in writing on the standards enumerated in Section 25 of the Federal Reserve Act.

Unless otherwise noted, comments regarding each of these applications may be received at the Reserve Bank indicated or the offices of the Board of Governors not later than May 15, 2012.

A. Federal Reserve Bank of Chicago (Colette A. Fried, Assistant Vice President) 230 South LaSalle Street, Chicago, Illinois 60690-1414:

1. Lake Forest Bank and Trust Company, Lake Forest, Illinois; to establish FIFC Edge International Corp., Lake Forest, Illinois, as an Edge Corporation.

Board of Governors of the Federal Reserve System, April 25, 2012.
Robert deV. Frierson,
Deputy Secretary of the Board.

[FR Doc. 2012-10345 Filed 4-27-12; 8:45 am]

BILLING CODE 6210-01-P